DEPARTMENT OF ENERGY

Federal Energy Regulatory Commission

[Project No. 349-173—Alabama]

Alabama Power Company, Martin Dam Hydroelectric Project; Notice of Proposed Revised Restricted Service List for a Programmatic Agreement for Managing Properties Included in or Eligible for Inclusion in the National Register of Historic Places

Rule 2010 of the Federal Energy Regulatory Commission's (Commission) Rules of Practice and Procedure, 18 CFR 385.2010, provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

The Commission staff is consulting with the Alabama State Historic Preservation Officer (Alabama SHPO) and the Advisory Council on Historic Preservation (Advisory Council) pursuant to the Advisory Council's regulations, 36 CFR part 800, implementing section 106 of the National Historic Preservation Act, as amended, (16 U.S.C. 470f), to prepare a Programmatic Agreement for managing properties included in, or eligible for inclusion in, the National Register of Historic Places at the Martin Dam Hydroelectric Project.

The Programmatic Agreement, when executed by the Commission, the Alabama SHPO, and the Advisory Council, would satisfy the Commission's section 106 responsibilities for all individual undertakings carried out in accordance with the license until the license expires or is terminated (36 CFR 800.13(e)). The Commission's responsibilities pursuant to section 106 for the Martin Dam Hydroelectric Project would be fulfilled through the Programmatic Agreement, which the Commission staff proposes to draft in consultation with the Alabama SHPO; Alabama Power Company, the licensee for Project No. 349-173; the Poarch Band of Creek Indians; the Choctaw Nation of Oklahoma; the Alabama-Quassarte Tribal Town; the Alabama-Coushatta Tribe of Texas; and the Thlopthlocco Tribal Town.

For purposes of commenting on the Programmatic Agreement, we propose to add the following persons to the restricted service list for the Martin Dam Hydroelectric Project to represent the interests of the Muscogee (Creek) Nation of Oklahoma and the Kialegee Tribal Town of the Muscogee (Creek) Nation: Principal Chief A.D. Ellis, Muscogee (Creek) Nation of Oklahoma, P.O. Box 580, Okmulgee, OK 74447; Mekko Tiger Hobia, Kialegee Tribal Town of the Muscogee, (Creek) Nation, P.O. Box 332, Wetumpka, OK 74883.

Dated: March 5, 2012.
Kimberly D. Bose,
Secretary.

[FR Doc. 2012-5842 Filed 3-9-12; 8:45 am]

BILLING CODE 6717-01-P